DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: The Ocean Enterprise: A study of U.S. business activity in ocean measurement, observation and forecasting.

OMB Control Number: 0648-xxxx.

Form Number(s): None.

Type of Request: Regular (request for a new information collection).

Number of Respondents: 300.

Average Hours per Response: 25 minutes.

Burden Hours: 125.

Needs and Uses: This request is for a new information collection supported by Section 12302(3) of the Integrated Coastal and Ocean Observation System Act (ICOOS Act) part of the Omnibus Public Land Management Act of 2009 (Pub. L. 111-11). The survey is voluntary.

NOAA's National Ocean Service is requesting approval of a Web-based survey of employers who provide either services or infrastructure to the Integrated Ocean Observing System (IOOS) or organizations that add value to the IOOS data and other outputs by tailoring them for specific end uses. The purpose of the survey and overall project is to gather data to articulate the collective and derived value of the IOOS enterprise, and to create a profile of businesses and organizations who are involved with providing services or utilizing the data for other specific end uses. This is the first survey of its kind on a national scale. The project is funded by NOAA and is being conducted on its behalf by the contractor, ERISS Corporation. The project contract spans three years with the first portion of the contract mainly involved with researching and selecting appropriate businesses to include in the study database. The Web survey will be the main data collection piece of the project and is necessary in order to collect demographic, financial, and functional information for each organization with regards to their involvement with IOOS. The final deliverable of this project is an analytic report detailing the findings of the web survey and the analysis of the employer database.

The marine technology industry is an important partner and stakeholder within IOOS; however, without the baseline that this study will provide, IOOS is unable to articulate its collective and derived value. The results will demonstrate the size and economic impact of IOOS data to the United States marine ocean sector. That information can be used to understand the value of export sales and the identification of potential growth and/or new international markets which would further the Department of Commerce (DOC) strategic goal for better environment intelligence and translate into better programs by the DOC International Trade Administration in ocean observing industries in international trade.

Affected Public: Business or other for-profit organizations, not-for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 19, 2014.
Glenna Mickelson,
Management Analyst, Office of the Chief Information Officer.

[FR Doc. 2014-30180 Filed 12-23-14; 8:45 am]

BILLING CODE 3510-JE-P